DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 7/27/2011 Through 8/25/2011
Firm name | Address | Date accepted for investigation | Products
Colonial Mills, Inc | 560 Mineral Spring Avenue, Pawtucket, RI 02862 | 8/23/2011 | The firm manufactures braided-texture area rugs and accessories including baskets, stair treads and chair pads.
Dungeness Development Associates, Inc | 313 E Robert Bush Dr., P.O. Box 127, South Bend, WA 98586 | 8/19/2011 | The firm manufactures canned shrimp and canned albacore.
Esher & Hamilton, Inc | 501 S. 8th Street, La Porte, TX 77571-4949 | 8/4/2011 | The firm manufactures custom cabinets.
Great American Appetizers, Inc | 216 8th Street North, Nampa, ID 83687 | 8/2/2011 | The firm manufactures appetizers for retail, club, and foodservice customers.
Jackson Cabinetry, LLC | 621 N. Jackson Street, Covington, LA 70433-2533 | 8/8/2011 | The firm manufactures custom and semi-custom cabinets.
Methods Distributors and Manufacturers, Inc | 104 Sayton Road, Fox Lake, IL 60020 | 7/27/2011 | The firm manufactures plastic and metal screws and fasteners for pressurized devices such as fuel pumps, and compressed air pumps.
Permlight Products, Inc | 422 West 6th Street, Tustin, CA 92780-4334 | 8/25/2011 | The firm manufactures LED-based light engines for general illumination.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: August 26, 2011.
Bryan Borlik,
Director, Trade Adjustment Assistance for Firms Program.

[FR Doc. 2011-22476 Filed 9-1-11; 8:45 am]

BILLING CODE 3510-WH-P